COMMITTEE FOR THE IMPLEMENTATION OF TEXTILE AGREEMENTS

Establishment of an Import Limit for Certain Man-Made Fiber Textile Products Produced or Manufactured in Belarus

March 1, 2004.

AGENCY: Committee for the Implementation of Textile Agreements (CITA).

ACTION: Issuing a directive to the Commissioner, Bureau of Customs and Border Protection establishing a limit.

EFFECTIVE DATE: March 5, 2004.

FOR FURTHER INFORMATION CONTACT: Naomi Freeman, International Trade Specialist, Office of Textiles and Apparel, U.S. Department of Commerce, (202) 482-4212. For information on the quota status of this limit, refer to the Quota Status Reports posted on the bulletin boards of each Customs port, call (202) 927-5850, or refer to the Bureau of Customs and Border Protection Web site at http://www.cbp.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

On December 12, 2003, CITA directed the Commissioner, Bureau of Customs and Border Protection, to establish 2004 import limits for certain wool and man-made fiber textile products produced or manufactured in Belarus (See 68 FR 70494, published on December 18, 2003). That directive included a limit on Category 622, with a sublimit on 622-L. The Bilateral Textile Memorandum of Understanding dated January 10, 2003 between the Governments of the United States and Belarus also calls for an additional sublimit, on Category 622-N. As, the United States and Belarus have not been able to reach agreement on the terms of this additional sublimit, the United States is implementing a sublimit on Category 622-N pending agreement with the Government of Belarus on its terms. This sublimit may be revised if the Governments of the United States and Belarus reach agreement on the terms of the sublimit or if Belarus becomes a member of the World Trade Organization (WTO) and the United States applies the WTO agreement to Belarus.

In the letter published below, the Chairman of CITA directs the Commissioner, Bureau of Customs and Border Protection to establish the limit for Category 622-N.

A description of the textile and apparel categories in terms of HTS numbers is available in the CORRELATION: Textile and Apparel Categories with the Harmonized Tariff Schedule of the United States (see Federal Register notice 68 FR 1599, published on January 13, 2003).

James C. Leonard III,
Chairman, Committee for the Implementation of Textile Agreements.

Committee for the Implementation of Textile Agreements

March 1, 2004.

Commissioner,

Bureau of Customs and Border Protection, Washington, DC 20229.

Dear Commissioner: Pursuant to section 204 of the Agricultural Act of 1956, as amended (7 U.S.C. 1854); Executive Order 11651 of March 3, 1972, as amended; you are directed to prohibit, effective on March 5, 2004, entry into the United States for consumption and withdrawal from warehouse for consumption of glass fiber fabric products in Category 622-N ¹, produced or manufactured in Belarus and exported during the twelve-month period beginning on January 1, 2004 and extending through December 31, 2004 in excess of 611,326 square meters.

¹ Category 622-N : HTS numbers 7019.52.40.20, 7019.52.90.20, 7019.59.40.20, 7019.59.90.20.

Textile products in Category 622-N which have been exported to the United States prior to January 1, 2004 shall not be subject to this directive.

Textile products in this category which have been released from the custody of the Bureau of Customs and Border Protection under the provisions of 19 U.S.C. 1448(b) or 1484(a)(1) prior to the effective date of this directive shall not be denied entry under this directive.

This limit may be revised if the Governments of the United States and Belarus reach agreement on the terms of the sublimit or if Belarus becomes a member of the World Trade Organization (WTO) and the United States applies the WTO agreement to Belarus.

Import charges will be provided at a later date.

In carrying out the above directions, the Commissioner, Bureau of Customs and Border Protection should construe entry into the United States for consumption to include entry for consumption into the Commonwealth of Puerto Rico.

The Committee for the Implementation of Textile Agreements has determined that this action falls within the foreign affairs exception of the rulemaking provisions of 5 U.S.C. 553(a)(1).

Sincerely,

James C. Leonard III,

Chairman, Committee for the Implementation of Textile Agreements.

[FR Doc.04-4989 Filed 3-4-04; 8:45 am]

BILLING CODE 3510-DR-S